ENVIRONMENTAL PROTECTION AGENCY

[EPA-HQ-ORD-2018-0774; FRL-11340-01-OMS]

Agency Information Collection Activities; Submission to the Office of Management and Budget for Review and Approval; Comment Request; Evaluating End User Satisfaction of EPA's Research Products (Renewal)

AGENCY: Environmental Protection Agency (EPA).

ACTION: Notice.

SUMMARY: The Environmental Protection Agency has submitted an information collection request (ICR), Evaluating End User Satisfaction of EPA's Research Products (EPA ICR Number 2593.02, OMB Control Number 2080-0085) to the Office of Management and Budget (OMB) for review and approval in accordance with the Paperwork Reduction Act (PRA). This is a proposed extension of the ICR, which is currently approved through August 31, 2023. Public comments were previously requested via the Federal Register on December 19, 2022, during a 60-day comment period. This notice allows for an additional 30 days for public comments.

DATES: Comments may be submitted on or before September 15, 2023.

ADDRESSES: Submit your comments, referencing Docket ID Number EPA-HQ-ORD-2018-0774, to EPA online using www.regulations.gov (our preferred method), by email to ord.docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Alyssa Gurkas, U.S. Environmental Protection Agency, Office of Research and Development, Office of Resource Management, Improvement and Accountability Division, Mail Code 41182, Environmental Protection Agency, 1200 Pennsylvania Ave. NW, Washington, DC 20460; telephone number: 202-731-7553; email address: Gurkas.alyssa@epa.gov.

SUPPLEMENTARY INFORMATION: This is a proposed extension of the ICR, which is currently approved through August 31, 2023. An agency may not conduct or sponsor and a person is not required to respond to a collection of information unless it displays a currently valid OMB control number.

Public comments were previously requested via the Federal Register on December 19, 2022 during a 60-day comment period (87 FR 77602). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The purpose of this information collection is to survey partners currently using the EPA's Office of Research and Development's (ORD) scientific research products to increase transparency and public participation, and to ascertain the quality, usability, and timeliness of the research products. ORD will collect these data to inform the annual end-of-year performance reporting to the Office of Management and Budget (OMB) that will be published each year in the Annual Performance Report (APR), which is part of the President's Budget Request and mandated under the Government Performance and Results Act (GPRA). The survey results will be used to estimate the degree to which ORD research products meet partner needs and will enable the improvement of the development and delivery of products. Some of the information reported on the form is confidential, which will be withheld from the public pursuant to Section 107(1) of the Ethics in Government Act of 1978. Participation is voluntary.

Form Numbers: 6000-021.

Respondents/affected entities: Life, physical and social science professionals.

Respondent's obligation to respond: Voluntary.

Estimated number of respondents: 270 (total).

Frequency of response: Annually.

Total estimated burden: 68 hours (per year). Burden is defined at 5 CFR 1320.03(b).

Total estimated cost: $4,344.30 (per year), which includes no annualized capital or operation & maintenance costs.

Changes in the Estimates: There is a decrease of 15 hours in the total estimated respondent burden compared with the ICR previously approved by OMB. This burden reduction is attributed to a decrease in time needed for survey completion.

Courtney Kerwin,
Director, Regulatory Support Division.

[FR Doc. 2023-17550 Filed 8-15-23; 8:45 am]

BILLING CODE 6560-50-P